DEPARTMENT OF ENERGY

Federal Energy Regulatory Commission

[Project No. 2801-040]

Littleville Power Company, Inc.; Hitchcock Hydro, LLC; Notice of Application for Transfer of License and Soliciting Comments, Motions To Intervene, and Protests

On February 9, 2017, Littleville Power Company, Inc. (transferor) and Hitchcock Hydro, LLC (transferee) filed an application for the transfer of license of the Glendale Hydroelectric Project No. 2801. The project is located on the Housatonic River in Berkshire County, Massachusetts. The project does not occupy Federal lands.

The applicants seek Commission approval to transfer the license for the Glendale Hydroelectric Project from the transferor to the transferee.

Applicant's Contacts: For Transferor: Mr. Stephen Pike, Vice President, Operations, Littleville Power Company, Inc., c/o Enel Green Power North America, Inc., 1 Tech Drive, Suite 220, Andover, MA 01810, Email: Stephen.Pike@enel.com, Vice President, Power Supply & General Counsel, Green Mountain Power Corporation, 163 Acorn Lane, Colchester; VT 05446; Ms. Elizabeth Kohler, Esq., Downs Rachlin Martin PLLC, 199 Main Street, P.O. Box 190, Burlington, VT 05402; and General Counsel, Enel Green Power North America, Inc., 1 Tech Drive, Suite 220, Andover, MA 01810, Email: generalcounsel@enel.com.

For Transferee: Mr. Mark J. Boumansour, Chief Operating Officer, Hitchcock Hydro, LLC, c/o Gravity Renewables, Inc., 1401 Walnut Street, Suite 220, Boulder, CO 80302, Phone: (303) 440-3378, Email: mark@gravityrenewables.com; Mr. Karl F. Kumli, III, Dietze and Davis, P.C., 2060 Broadway, Suite 400, Boulder, CO 80302; and Mr. Robert A. Panasci, Esq., Young/Sommer, LLC, Executive Woods, Palisades Drive, Albany, NY 12205.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2801-040.

Dated: March 16, 2017.
Kimberly D. Bose,
Secretary.

[FR Doc. 2017-05791 Filed 3-22-17; 8:45 am]

BILLING CODE 6717-01-P